FEDERAL COMMUNICATIONS COMMISSION

Notice of Public Information Collection(s) Being Submitted for Review and Approval to the Office of Management and Budget (OMB), Comments Requested

April 27, 2011.

SUMMARY: Direct all PRA comments to Nicholas A. Fraser, Office of Management and Budget, via fax at 202-395-5167 or the Internet at Nicholas_A._Fraser@omb.eop.gov and to the Federal Communications Commission's PRA mailbox (e-mail address: PRA@fcc.gov. Include in the e-mail the OMB control number of the collection as shown in the SUPPLEMENTARY INFORMATION section below, or if there is no OMB control number, include the Title as shown in the SUPPLEMENTARY INFORMATION section. If you are unable to submit your comments by e-mail, contact the person listed below to make alternate arrangements.

DATES: Written Paperwork Reduction Act (PRA) comments should be submitted on or before June 2, 2011. If you anticipate that you will be submitting PRA comments, but find it difficult to do so within the period of time allowed by this notice, you should advise the FCC contact listed below as soon as possible.

ADDRESSES: Direct all PRA comments to Nicholas A. Fraser, Office of Management and Budget, via fax at 202-395-5167 or the Internet at Nicholas_A._Fraser@omb.eop.gov; and to the Federal Communications Commission's PRA mailbox (e-mail address: PRA@fcc.gov). Include in the email the OMB control number of the collection as shown in the SUPPLEMENTARY INFORMATION section below, or if there is no OMB control number, include the Title as shown in the SUPPLEMENTARY INFORMATION section. If you are unable to submit your comments by email, contact the person listed below to make alternate arrangements.

FOR FURTHER INFORMATION CONTACT: Benish Shah, Office of Managing Director, (202) 418-7866.

SUPPLEMENTARY INFORMATION: OMB Control Number: 3060-1113.

Title: Commercial Mobile Alert System (CMAS).

Form No.: N/A.

Type of Review: Revision of a currently approved collection.

Respondents: Business or other for-profit.

Number of Respondents: 1,253 respondents; 1,253 responses.

Estimated Time per Response: .50 hours.

Frequency of Response: On occasion reporting requirement, recordkeeping requirement and third party disclosure requirements

Obligation To Respond: Mandatory. Statutory authority for this information collection is contained in 47 U.S.C. sections 151, 154(i), 154(j), 154(o), 218, 219, 230, 256, 302(a), 303(f), 303(g), 303(r), 403, 621(b)(3), and 621(d).

Total Annual Burden: 627 hours.

Total Annual Cost: N/A.

Privacy Act Impact Assessment: N/A.

Nature and Extent of Confidentiality: There is no need for confidentiality.

Needs and Uses: The Commission will submit this information collection (IC) to the OMB during this comment period. The Commission is seeking OMB approval for revision of this information collection.

The Commission is requesting OMB approval for a revision because on August 7, 2008, the FCC released a Third Report and Order in PS Docket No. 07-287, FCC 08-184 (CMAS Third R&O).

The CMAS Third R&O implements provisions of the Warning, Alert and Response Network (“WARN”) Act, including inter alia, a requirement that within 30 days of release of the CMAS Third R&O, each Commercial Mobile Service (CMS) provider must file an election with the Commission indicating whether or not it intends to transmit emergency alerts as part of the Commercial Mobile Alert System (CMAS). The CMAS Third R&O noted that this filing requirement was subject to OMB review and approval. The Commission received “pre-approval” from the OMB on February 4, 2008. The Commission began accepting CMAS election filings on or before September 8, 2008.

All CMS providers are required to submit a CMAS election, including those that were not licensed at the time of the initial filing deadline with the FCC. In addition, any CMS provider choosing to withdraw its election must notify the Commission at least sixty (60) days prior to the withdrawal of its election. The information collected will be the CMS provider's contact information and its election, i.e., a “yes” or “no”, on whether it intends to provide commercial mobile service alerts.

The Commission will use the information collected to meet its statutory requirement under the WARN Act to accept licensees' election filings and to establish an effective CMAS that will provide the public with effective mobile alerts in a manner that imposes minimal regulatory burdens on affected entities.

Federal Communications Commission.
Marlene H. Dortch,
Secretary, Office of the Secretary, Office of Managing Director.

[FR Doc. 2011-10636 Filed 5-2-11; 8:45 am]

BILLING CODE 6712-01-P